DEPARTMENT OF THE INTERIOR

Bureau of Land Management

[AZ-020-00-1430-ES; AZA-31250]

Notice of Realty Action; Recreation and Public Pruposes (R&PP) Act Classification; Arizona

AGENCY: Bureau of Land Management, Interior.

ACTION: Notice.

SUMMARY: The following public lands, are located in Maricopa County, Arizona, and found suitable for lease or conveyance under the provisions of the Recreation and Public Purposes Act, as amended (43 U.S.C. 869, et seq.). The lands are not needed for federal purposes. Lease or conveyance is consistent with current Bureau of Land Management (BLM) land use planning and would be in the public interest. The following described lands, located near the Town of Buckeye, Maricopa County, have been found suitable for lease or conveyance to Maricopa County Parks and Recreation for a regional park.

Gila and Salt River Meridian, Arizona

T.3 N., R. 4 W.,

Sections, 1 S½N½,S½; 11, E½E½E½; 12, All; 13, All; 14, E½NE¼NE¼E½NE¼SE¼; 24, E½N½NW¼; 25, E½SE¼SE¼; 36, NE¼E½NW¼.

Containing approximately 2880.00 acres.

The lease or conveyance would be subject to the following terms, conditions and reservations:

1. Provisions of the Recreation and Public Purposes Act and all applicable regulations of the Secretary of the Interior.

2. All minerals shall be reserved to the United States, together with the right to prospect for, mine and remove the minerals.

3. A right-of-way for ditches and canals constructed by the authority of the United States.

4. Those rights as B7J Cattle Company, may have to that portion of the Douglas Grazing Allotment.

FOR FURTHER INFORMATION CONTACT: JoAnn Goodlow at the Phoenix Feild Office, 2015 W. Deer Valley Road, Phoenix, Arizona 85027, (623) 580-5548.

SUPPLEMENTARY INFORMATION: Upon publication of this notice in the Federal Register, the lands will be segregated from all other forms of appropriation under the public land laws, including the general mining laws, except for lease or conveyance under the Recreation and Public Purposes Act. For a period of 45 days from the date of publication of this Notice, interested parties may submit comments regarding the proposed lease, conveyance or classification of the lands to the Field Office Manager, Phoenix Field Office, 2015 W. Deer Valley Road, Phoenix, Arizona 85027.

Classification Comments

Interested parties may submit comments involving the suitability of the land for: a Regional park, for Maricopa County. Comments on the classification are restricted to whether the land is physically suited for the proposals, whether the uses will maximize the future use or uses of land, whether the uses are consistent with local planning and zoning, or if the uses are consistent with state and federal programs.

Application Comments

Interested parties may submit comments regarding the specific uses proposed in the applications and plans of development, whether BLM followed proper administrative procedures in reaching the decision, or any other factor not directly related to the suitability of the land for proposed uses. Any adverse comments will be reviewed by the State Director. In the absence of any adverse comments, the classification will become effective 60 days from the date of publication in the Federal Register.

Dated: July 27, 2000.
Deborah K. Rawhouser,
Assistant Field Manager, Resource Use & Protection.

[FR Doc. 00-19872 Filed 8-4-00; 8:45 am]

BILLING CODE 4310-32-M